FEDERAL COMMUNICATIONS COMMISSION

47 CFR Part 73

[FCC 13-105; MB Docket No. 02-266; RM-10557]

Radio Broadcasting Services; Chillicothe, Dublin, Hillsboro, and Marion, Ohio

AGENCY: Federal Communications Commission.

ACTION: Final rule; application for review.

SUMMARY: This document denies an Application for Review filed by the Committee for Competitive Columbus Radio (“Committee”) of a Memorandum Opinion and Order in this proceeding, which denied the Committee's Petition for Reconsideration of an earlier Bureau action, granting the reallotment, class downgrade, and change of community of license of an Ohio FM station. The document finds that the Bureau properly applied the Commission's then-existing policy of not considering compliance with the multiple ownership rule at the allotment stage.

DATES: August 28, 2013.

FOR FURTHER INFORMATION CONTACT: Andrew J. Rhodes, Media Bureau, (202) 418-2700.

SUPPLEMENTARY INFORMATION: This is a synopsis of the Commission's Memorandum Opinion and Order, MM Docket No. 02-266, adopted July 31, 2013, and released August 1, 2013. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or www.BCPIWEB.com.

In the Report and Order in this proceeding, the Bureau granted a Petition for Rulemaking filed by Clear Channel Communications for the reallotment, downgrade in class of channel, and change of community of license for its Station WCGX(FM) (formerly WMRN-FM) from Channel 295B at Marion, Ohio to Channel 294B1 at Dublin, Ohio, over the objection of the Committee. See 70 FR 19337 (April 13, 2005). The Committee had argued that the reallotment to Dublin could not be implemented because it would violate the local radio ownership rule. However, the Report and Order rejected this argument, explaining that multiple ownership issues are not considered in FM allotment proceedings. The Committee sought reconsideration on the same ground, and the Bureau denied the petition in the Memorandum Opinion and Order. See 71 FR 40927 (July 19, 2006).

On review, the Commission finds that, contrary to the Committee's contention, the Bureau did not err in deferring the issue of compliance with the multiple ownership rule until an implementing application was filed because such an approach is consistent with then-existing policy. Additionally, the Commission concludes that the Bureau did not err in referring to Station WCGX(FM) as formerly licensed to Marion because the Report and Order did modify the Station WCGX(FM) license to specify Dublin. However, that modification had no immediate impact on competition in the Columbus radio market as Clear Channel was required to file an implementing application and demonstrate compliance with the multiple ownership rule, which Clear Channel did. This document is not subject to the Congressional Review Act. (The Commission, is, therefore, not required to submit a copy of this Memorandum Opinion and Order to GAO, pursuant to the Congressional Review Act, see 5 U.S.C. 801(a)(1)(A) because the Application for Review was denied.)

Federal Communications Commission.
Marlene H. Dortch,
Secretary.

[FR Doc. 2013-21031 Filed 8-27-13; 8:45 am]

BILLING CODE 6712-01-P